DEPARTMENT OF HEALTH AND HUMAN SERVICES

Centers for Disease Control and Prevention

[30Day-23-0314]

Agency Forms Undergoing Paperwork Reduction Act Review

In accordance with the Paperwork Reduction Act of 1995, the Centers for Disease Control and Prevention (CDC) has submitted the information collection request titled “The National Survey of Family Growth (NSFG)” to the Office of Management and Budget (OMB) for review and approval. CDC previously published a “Proposed Data Collection Submitted for Public Comment and Recommendations” notice on April 7, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The National Survey of Family Growth (NSFG) (OMB Control No. 0920-0314, Exp. 12/31/2024)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “family formation, growth, and dissolution,” as well as “determinants of health” and “utilization of health care” in the United States. This clearance request includes the data collection in 2024-2026 for the continuous National Survey of Family Growth (NSFG).

The NSFG was conducted periodically between 1973 and 2002, continuously in 2006-2010, and after a break of 15 months, continuously in 2011-2019, by the NCHS, CDC. Each year, about 13,500 households will be screened, with about 5,000 participants interviewed annually. Participation in the NSFG is completely voluntary and confidential. Interviews are expected to average 50 minutes for males and 75 minutes for females. The response rate during the 2011-2019 data collection period ranged from 64.5% to 74.0%, and the cumulative response rate for this 8-year fieldwork period was 67.7%.

The NSFG program produces descriptive statistics which document factors associated with birth and pregnancy rates, including contraception, infertility, marriage, cohabitation, and sexual activity, in the US household population 15-49 years (15-44 prior to 2015), as well as behaviors that affect the risk of HIV and other sexually transmitted diseases (STD). The survey also disseminates statistics on the medical care associated with contraception, infertility, pregnancy, and related health conditions.

NSFG data users include the DHHS programs that fund the survey, including CDC/NCHS and eleven others within the Department of Health and Human Services:

• Eunice Kennedy Shriver National Institute for Child Health and Human Development (NIH/NICHD)

• Office of Population Affairs (OPA)

• Children's Bureau in the Administration for Children and Families (ACF/CB)

• Office of Planning, Research, and Evaluation (ACF/CB)

• Office on Women's Health (OASH/OWH)

• CDC's Division of HIV/AIDS Prevention (CDC/NCHHSTP/DHAP)

• CDC's Division of STD Prevention (CDC/NCHHSTP/DSTDP)

• CDC's Division of Adolescent and School Health (CDC/NCHHSTP/DASH)

• CDC's Division of Reproductive Health (CDC/NCCDPHP/DRH)

• CDC's Division of Cancer Prevention and Control (CDC/NCCDPHP/DCPC)

• CDC's Division of Violence Prevention (CDC/NCIPC/DVP)

The NSFG is also used by state and local governments (primarily for benchmarking to national data); private research and action organizations focused on men's and women's health, child well-being, and marriage and the family; academic researchers in the social and public health sciences; journalists, and many others.

This submission requests approval for a revision to NSFG data collection for three years. The revision request includes the increase of the main survey incentive from $40 to $60, a small set of questionnaire revisions beginning in Year 3 (2024) data collection and to conduct several methodological studies designed to improve the efficiency and validity of NSFG data collection for the purposes described above. The total estimated annualized time burden to respondents is 6,584 hours. There is no cost to respondents other than their time.

Estimated Annualized Burden Hours
Respondents | Form | Number of responses | Responses per respondent | Average burden/ response (in hours)
Household member | Screener Interview | 15,000 | 1 | 5/60
Household Female 15-49 years of age | Female Interview | 2,750 | 1 | 75/60
Household Male 15-49 years of age | Male Interview | 2,250 | 1 | 50/60
Household member | Screener Verification | 230 | 1 | 2/60
Household Individual 15-49 years of age | Main Verification | 150 | 1 | 5/60

Jeffrey M. Zirger,
Lead, Information Collection Review Office, Office of Public Health Ethics and Regulations, Office of Science, Centers for Disease Control and Prevention.

[FR Doc. 2023-17920 Filed 8-18-23; 8:45 am]

BILLING CODE 4163-18-P